DEPARTMENT OF HOMELAND SECURITY

Federal Emergency Management Agency

44 CFR Part 67

[Docket No. FEMA-P-7661]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, flood insurance, reporting and record keeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding and location of referenced elevation | ◆Elevation in feet (NAVD): Existing | ◆Elevation in feet (NAVD): Modified | Communities affected
Alexander Creek:
Approximately 8,025 feet upstream of Ward Road | None | ◆942 | Cass County (Unincorporated Areas), City of Raymore.
Approximately 5,600 feet upstream of Prairie Road | None | ◆1,004
East Branch South Grand River:
Approximately 9,900 feet upstream of confluence of Wolf Creek | None | ◆886 | Cass County (Unincorporated Areas) City of Peculiar.
Approximately 510 feet upstream of Kendall Road | None | ◆954
East Branch of West Fork East Creek:
At confluence with West Fork East Creek | None | ◆974 | Cass County (Unincorporated Areas) City of Belton.
Approximately 3,050 feet upstream of confluence with West Fork East Creek | None | ◆990
East Creek Tributary:
Approximately 990 feet downstream of Pickering Road | None | ◆918 | Cass County (Unincorporated Areas) City of Raymore.
Approximately 10,000 feet upstream of confluence of North Fork East Creek Tributary | None | ◆1,000
East Fork of East Tributary of East Branch South Grand River:
At confluence with East Tributary of East Branch South Grand River | None | ◆937 | Cass County (Unincorporated Areas).
Approximately 3,250 feet upstream of 200th Street | None | ◆1,007
East Tributary of East Branch South Grand River:
At confluence with East Branch South Grand River | None | ◆889 | Cass County (Unincorporated Areas).
Approximately 2,920 feet upstream of Prairie Road | None | ◆993
East Tributary of Lumpkins Fork:
Approximately 4,770 feet downstream of North Madison Street | None | ◆954 | City of Raymore.
Approximately 40 feet upstream of 155th Street | None | ◆999
East Tributary of Massey Creek:
Approximately 3,225 feet downstream of Missouri Highway D | None | ◆944 | Cass County (Unincorporated Areas).
Approximately 85 feet upstream of Cedar Road | None | ◆997
Lower East Fork of East Creek Tributary:
At confluence with East Creek Tributary | None | ◆931 | Cass County (Unincorporated Areas) City of Raymore.
Approximately 12,800 feet upstream of U.S. Highway 71 | None | ◆987
Lower East Tributary of Mill Creek:
At confluence with Mill Creek | None | ◆885 | Cass County (Unincorporated Areas).
Approximately 8,120 feet upstream of Confluence with Mill Creek | None | ◆937
Lumpkins Fork:
At 155th Street | None | ◆945 | Cass County (Unincorporated Areas).
Approximately 70 feet upstream of North Madison Street | None | ◆979 |
Massey Creek:
Approximately 5,070 feet downstream of 223rd Street | None | ◆904 | Cass County (Unincorporated Areas).
At State Line Road | None | ◆969 |
Middle East Tributary of Mill Creek:
Approximately 3,950 feet upstream of confluence with Mill Creek | None | ◆912 | Cass County (Unincorporated Areas).
Approximately 6,320 feet upstream of confluence with Mill Creek | None | ◆940 |
Mill Creek:
At County Boundary | None | ◆871 | Cass County (Unincorporated Areas).
Approximately 95 feet downstream of 187th Street | None | ◆1,045 |
North Branch of Upper East Fork of East Creek Tributary:
Approximately 1,700 feet downstream of Hubach Hill Road | None | ◆976 | Cass County (Unincorporated Areas).
Approximately 25 feet upstream of Hubach Hill Road | None | ◆986 |
North Fork of East Creek Tributary:
At confluence with East Creek Tributary | None | ◆953 | Cass County (Unincorporated Areas).
Approximately 11,000 feet upstream of confluence with East Creek Tributary | None | ◆990 |
North Tributary of Wolf Creek:
Approximately 410 feet downstream of East 233rd Street | None | ◆927 | Cass County (Unincorporated Areas) City of Peculiar.
Approximately 40 feet upstream of 227th Street | None | ◆954 |
Poney Creek:
Approximately 4,925 feet downstream of Bennett Road | None | ◆831 | Cass County (Unincorporated Areas) City of Freeman.
Approximately 7,550 feet upstream of Poney Creek Road | None | ◆849 |
Silver Lake | None | ◆1,029 | City of Raymore.
South Grand River:
Approximately 5,160 feet downstream of State Highway 2 | None | ◆829 | Cass County (Unincorporated Areas).
Approximately 765 feet upstream of Lake Annette Road | None | ◆850 |
Tributary of Alexander Creek:
Approximately 1,500 feet downstream of State Highway 58 | None | ◆988 | Cass County (Unincorporated Areas) City of Raymore.
Approximately 85 feet upstream of State Highway 58 | None | ◆996 |
Upper East Fork of East Creek Tributary:
Approximately 2,685 feet downstream of Good Ranch Road | None | ◆947 | Cass County (Unincorporated Areas), City of Raymore.
Approximately 50 feet upstream of Hubach Hill Road | None | ◆993
Upper East Tributary of Mill Creek:
At Highland Ridge Drive | None | ◆933 | Cass County (Unincorporated Areas).
Approximately 5,800 feet upstream of Highland Ridge Drive | None | ◆988
West Tributary of East Branch South Grand River:
Approximately 2,095 feet downstream of East 223rd Street | None | ◆896 | Cass County (Unincorporated Areas).
Approximately 75 feet upstream of East 223rd Street | None | ◆915
West Tributary of Lumpkins Fork:
At 155th Street | None | ◆946 | Cass County (Unincorporated Areas).
Approximately 1,065 feet upstream of 155th Street | None | ◆998
Wolf Creek:
Approximately 7,100 feet upstream of confluence with East Branch South Grand River | None | ◆889 | Cass County (Unincorporated Areas) City of Peculiar.
Approximately 1,170 feet upstream of 233rd Street | None | ◆946
Addresses
Cass County (Unincorporated Areas)
Maps are available for inspection at 102 East Wall Street, Harrisonville, Missouri.
Send comments to The Honorable Gary Mallory, Commissioner, Cass County, 102 East Wall Street, Harrisonville, Missouri 64701.
City of Belton
Maps are available for inspection at City Hall, 506 Main Street, Belton, Missouri.
Send comments to The Honorable Robert Gregory, Mayor, City of Belton, 506 Main Street, Belton, Missouri 64012.
City of Freeman
Maps are available for inspection at City Hall, 105 East Main Street, Freeman, Missouri.
Send comments to The Honorable Thomas Bray, Mayor, City of Freeman, 105 East Main Street, Freeman, Missouri 64725.
City of Peculiar
Maps are available for inspection at City Hall, 600 Schug Avenue, Peculiar, Missouri.
Send comments to The Honorable George Lewis, Mayor, City of Peculiar, 600 Schug Avenue, P.O. Box 372, Peculiar, Missouri 64078.
City of Raymore
Maps are available for inspection at City Hall, 100 Municipal Circle, Raymore, Missouri.
Send comments to The Honorable Juan Alonzo, Mayor, City of Raymore, 100 Municipal Circle, Raymore, Missouri 64083.
Osage River:
Approximately 28,150 feet downstream of U.S. Highway 50 | ◆544 | ◆543 | Osage County (Unincorporated Areas).
Approximately 131,850 feet upstream of U.S. Highway 50 | None | ◆557
Maps are available for inspection at Osage County Courthouse, 106 East Main Street, Linn, Missouri.
Send comments to Mr. Bradley J. Strope, Floodplain Administrator, P.O. Box 1011, Linn, Missouri 65051.

(Catalog of Federal Domestic Assistance No. 83.100, “Flood Insurance”)

Dated: October 6, 2004.
David I. Maurstad,
Acting Director, Mitigation Division, Emergency Preparedness and Response Directorate.

[FR Doc. 04-23307 Filed 10-18-04; 8:45 am]

BILLING CODE 9110-12-P